COMMISSION ON CIVIL RIGHTS

Agenda and Notice of Public Meeting of the Connecticut Advisory Committee

Notice is hereby given, pursuant to the provisions of the rules and regulations of the U.S. Commission on Civil Rights (Commission), and the Federal Advisory Committee Act (FACA), that a planning meeting of the Connecticut Advisory Committee to the Commission will be held at the University of Connecticut School of Law, Faculty Lounge, 55 Elizabeth Street, Hartford, CT 06105, and will convene at 12:00 noon (EST) Friday, January 13, 2012. The purpose of the planning meeting is to work to finalize the Committee report on racial profiling.

Members of the public are entitled to submit written comments. The comments must be received in the regional office by Monday, February 13, 2011. Comments may be mailed to the Eastern Regional Office, U.S. Commission on Civil Rights, 624 9th Street NW., Suite 740, Washington, DC 20425, faxed to (202) 376-7548, or emailed to ero@usccr.gov.

Persons needing accessibility services should contact the Eastern Regional Office at least ten (10) working days before the scheduled date of the meeting.

Records generated from this meeting may be inspected and reproduced at the Eastern Regional Office, as they become available, both before and after the meeting. Persons interested in the work of this advisory committee are advised to go to the Commission's Web site, http://www.usccr.gov, or to contact the Eastern Regional Office at the above email or street address.

The meeting will be conducted pursuant to the provisions of the rules and regulations of the Commission and FACA.

Dated in Washington, DC, December 31, 2011.
Peter Minarik,
Acting Chief, Regional Programs Coordination Unit

[FR Doc. 2012-1 Filed 1-5-12; 8:45 am]

BILLING CODE 6335-01-P